DEPARTMENT OF TRANSPORTATION

Federal Aviation Administration

14 CFR Part 71

[Docket No. FAA-2021-0821; Airspace Docket No. 21-ASW-1]

RIN 2120-AA66

Proposed Amendment, Establishment, and Revocation of Multiple Air Traffic Service (ATS) Routes in the Vicinity of Borger, TX

AGENCY: Federal Aviation Administration (FAA), DOT.

ACTION: Notice of proposed rulemaking (NPRM).

SUMMARY: This action proposes to amend Jet Route J-8 and VHF Omnidirectional Range (VOR) Federal airway V-272; establish Area Navigation (RNAV) route T-420; and remove Jet Route J-142 and VOR Federal airways V-304 and V-390. The FAA is proposing this action due to the planned decommissioning of the VOR portion of the Borger, TX, VOR/Tactical Air Navigation (VORTAC) navigational aid (NAVAID). The Borger VOR is being decommissioned in support of the FAA's VOR Minimum Operational Network (MON) program.

DATES: Comments must be received on or before December 17, 2021.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2021-0821; Airspace Docket No. 21-ASW-1 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0821; Airspace Docket No. 21-ASW-1) and be submitted in triplicate to the Docket Management Facility (see the ADDRESSES section for address and phone number). You may also submit comments through the internet at https://www.regulations.gov.

Commenters wishing the FAA to acknowledge receipt of their comments on this action must submit with those comments a self-addressed, stamped postcard on which the following statement is made: “Comments to FAA Docket No. FAA-2021-0821; Airspace Docket No. 21-ASW-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see the ADDRESSES section for address and phone number) between 9:00 a.m. and 5:00 p.m., Monday through Friday, except federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Background

The FAA is planning to decommission the Borger, TX, VOR in July 2022. The Borger VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Borger VORTAC is planned for decommissioning, the co-located Tactical Air Navigation (TACAN) portion of the NAVAID, which includes Distance Measuring Equipment (DME) service, is being retained to support NextGen PBN flight procedure requirements.

The air traffic service (ATS) routes effected by the Borger VOR decommissioning are Jet Routes J-8 and J-142, and VOR Federal airways V-272, V-304, and V-390. With the planned decommissioning of the Borger VOR, the remaining ground-based NAVAID coverage in the area is insufficient to enable the continuity of the affected ATS routes. As such, proposed modification to J-8 would result in a gap in the route and to V-272 would result in the airway being shortened, as well as the proposed revocation of J-142, V-304, and V-390 in their entirety. To overcome the proposed modifications and revocations to the affected ATS routes, instrument flight rules (IFR) traffic could use portions of adjacent ATS routes, including J-6, J-14, J-58, J-76, J-78, and J-98 in the high altitude enroute structure and V-12, V-47, V-81, V-190, V-280, and V-402 in the low altitude enroute structure, or receive air traffic control (ATC) radar vectors to fly around or through the affected area. Additionally, IFR pilots equipped with RNAV capabilities could also navigate point to point using the existing NAVAIDs and fixes that would remain in place to support continued operations though the affected area. Visual flight rules (VFR) pilots who elect to navigate via the affected ATS routes could also take advantage of the adjacent ATS routes or ATC services listed previously.

Further, the FAA proposes to establish RNAV route T-420 between the Dalhart, TX, VORTAC and Will Rogers, OK, VORTAC. The new T-route would, in part, mitigate the proposed removal of the V-272 airway segment affected by the planned Borger VOR decommissioning, reduce air traffic control (ATC) sector workload and complexity, and reduce pilot-to-controller communication. The new route would also increase NAS capacity in the route's vicinity and assist ATC when non-radar procedures are required due to frequent outages of the Amarillo Approach Control radar. Finally, the new T-route would provide airspace users equipped with RNAV an ATS route between the Dalhart, TX, area eastward to the Oklahoma City, OK, area and support the FAA's NextGen efforts to modernize the NAS navigation system from a ground-based system to a satellite-based system.

The Proposal

The FAA is proposing an amendment to 14 CFR part 71 to amend Jet Route J-8 and VOR Federal airway V-272; establish RNAV route T-420; and remove Jet Route J-142 and VOR Federal airways V-304 and V-390 due to the planned decommissioning of the Borger, TX, VOR. The proposed ATS route actions are described below.

J-8: J-8 currently extends between the Needles, CA, VORTAC and the Casanova, VA, VORTAC. The FAA proposes to remove the route segment between the Fort Union, NM, VORTAC and the Kingfisher, OK, VORTAC. Additional changes to other portions of the route have been proposed in a separate NPRM. The unaffected portions of the existing airway would remain as charted.

J-142: J-142 currently extends between the Socorro, NM, VORTAC and the Borger, TX, VORTAC. The FAA proposes to remove the route segment between the Anton Chico, NM, VORTAC and Borger VORTAC due to the planned decommissioning of the Borger VOR. Additionally, the FAA proposes to remove the remaining route segment between the Socorro VORTAC and the Anton Chico VORTAC since the distance between the VORTACs is within NAVAID service volumes and pilots could file direct. As a result, the FAA proposes to remove J-142 in its entirety.

V-272: V-272 currently extends between the Dalhart, TX, VORTAC and the Will Rogers, OK, VORTAC. The FAA proposes to remove the airway segment between the Dalhart VORTAC and the Burns Flat, OK, VORTAC. The unaffected portions of the existing airway would remain as charted.

V-304: V-304 currently extends between the Panhandle, TX, VORTAC and the Lamar, CO, VOR/Distance Measuring Equipment (VOR/DME). The FAA proposes to remove the airway segment between the Panhandle VORTAC and Liberal, KS, VORTAC due to the planned decommissioning of the Borger VOR. Additionally, the FAA proposes to remove the remaining airway segment between the Liberal VORTAC and the Lamar VOR/DME since it overlays V-210 between the two NAVAIDs and will remain available for use by NAS users. As a result, the FAA proposes to remove V-304 in its entirety.

V-390: V-390 currently extends between the Tucumcari, NM, VORTAC and the Mitbee, OK, VORTAC. The FAA proposes to remove the airway in its entirety.

T-420: T-420 is a proposed new route that would extend between the Dalhart, TX, VORTAC and the Will Rogers, OK, VORTAC. This T-route would mitigate the proposed removal of the V-272 airway segment between the Dalhart, TX, VORTAC and the Burns Flat, OK, VORTAC (noted above), as well as provide RNAV routing capability from the Dalhart, TX, area, eastward to the Oklahoma City, OK, area.

All NAVAID radials listed in the Jet Route description below are unchanged and stated in True degrees.

Jet Routes are published in paragraph 2004, VOR Federal airways are published in paragraph 6010(a), and RNAV T-routes are published in paragraph 6011 of FAA Order JO 7400.11F, dated August 10, 2021, and effective September 15, 2021, which is incorporated by reference in 14 CFR 71.1. The ATS routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-8 [Amended]

From Needles, CA; Flagstaff, AZ; Gallup, NM; to Fort Union, NM. From Kingfisher, OK; Springfield, MO; St Louis, MO; Louisville, KY; Charleston, WV; INT Charleston 092° and Casanova, VA, 253° radials; to Casanova.

* * * * *

J-142 [Removed]

* * * * *

Paragraph 6010(a) Domestic VOR Federal Airways.

* * * * *

V-272 [Amended]

From Burns Flat, OK; to Will Rogers, OK.

* * * * *

V-304 [Removed]

* * * * *

V-390 [Removed]

* * * * *

Paragraph 6011 United States Area Navigation Routes.

* * * * *

T-420 Dalhart, TX (DHT) to Will Rogers, OK (IRW) [New]
Dalhart, TX (DHT) | VORTAC | (Lat. 36°05′29.24″ N, long. 102°32′40.71″ W)
Burns Flat, OK (BFV) | VORTAC | (Lat. 35°14′13.00″ N, long. 099°12′22.20″ W)
Will Rogers, OK (IRW) | VORTAC | (Lat. 35°21′30.95″ N, long. 097°36′33.22″ W)

Issued in Washington, DC, on October 26, 2021.
Michael R. Beckles,
Acting Manager, Rules and Regulations Group.

[FR Doc. 2021-23711 Filed 11-1-21; 8:45 am]

BILLING CODE 4910-13-P